DEPARTMENT OF HEALTH AND HUMAN SERVICES

Health Resources and Services Administration

Title III Early Intervention Services Program

AGENCY: Health Resources and Services Administration, HHS.

ACTION: Notice of availability of funds.

SUMMARY: The Health Resources and Services Administration (HRSA) announces the availability of fiscal year (FY) 2002 funds to be awarded under the Ryan White Comprehensive AIDS Resources Emergency (CARE) Act Title III Early Intervention Services (EIS) Program to support outpatient HIV early intervention and primary care services for low-income, medically underserved people in existing primary care systems. Grants will be awarded for a 3-year period.

Program Purpose: The primary goal of the EIS Program is to increase access to high quality outpatient HIV primary care for low-income, and/or medically underserved populations within existing primary care systems. All programs must have, or establish a comprehensive and coordinated continuum of outpatient HIV primary care services in targeted geographic areas as specified by the applicant. The EIS program defines comprehensive HIV primary care as that which begins with early identification services (testing and counseling), medical evaluation/clinical care, oral health care, adherence counseling, nutritional counseling, mental health, and substance abuse and includes a coordinated referral system for specialty and subspecialty care.

Program Requirements

Funded programs will be expected to provide:

(1) HIV counseling, testing, and referral;

(2) Medical evaluation and clinical care;

(3) Other primary care services; and

(4) Facilitated referrals to other health services.

Funded programs must provide the proposed services directly and/or through formal agreements with public or nonprofit private entities. A minimum of 50% of funds awarded MUST be spent on primary care services to HIV-positive individuals.

Eligible Applicants: Applications will be accepted only from current Ryan White CARE Act Title III Planning grantees. The purpose of this limited competition is to ensure that the Federal investment of funds made through the planning grantees, within these existing communities, is utilized to the fullest extent possible to develop a comprehensive primary care site for HIV services. These current Planning grantees were previously selected by an open and competitive process and approved to plan for the establishment of comprehensive HIV services. Applicants must be public or private non-profit entities. Faith-based and community-based organizations are eligible to apply.

Funding Priorities and/or Preferences: In awarding these grants, preference will be given to applicants located in rural or underserved communities where HIV primary health care resources, including financial resources available from the Ryan White CARE Act, remain insufficient to meet the need for HIV primary care services.

Authorizing Legislation: The EIS Program is authorized by the Public Health Service (PHS) Act, as amended by Public Law 106-345, the Ryan White CARE Act Amendments of 2000 (42 U.S. Code 300-71).

Availability of Funds: The program has approximately 6 million dollars available for this initiative. HRSA expects to fund approximately 20 programs for 3 years. The budget and project periods for approved and funded projects will begin on or about September 1, 2002. Continuation awards within the project period will be made on the basis of satisfactory progress and the availability of funds.

Application Deadline: Applications must be received in the HRSA Grant Application Center (GAC) at the address below by the close of business June 21, 2002. All applications will meet the deadline if they are either (1) received on or before the deadline date or (2) postmarked on or before the deadline date, and received in time for submission to the objective review panel. A legible dated receipt from a commercial carrier or U.S. Postal Service will be accepted instead of a postmark. Private metered postmarks will not be accepted as proof of timely mailing.

Obtaining Application Guidance and Kit: You may access the program guidance alone on HRSA's web site at www.hrsa.hab.gov/grants.html.

The official grant application kit and program guidance materials for this announcement may be obtained from the HRSA Grants Application Center, 901 Russell Avenue Suite 450, Gaithersburg, MD 20879, Attn: CFDA 93.918B; telephone 1-877-477-2234; e-mail address HRSA.GAC@hrsa.gov.

FOR FUTHER INFORMATION CONTACT: Additional information related to the program may be requested by contacting the Title III Primary Care Services Branch at (301) 443-0735.

Dated: April 16, 2002.
Elizabeth M. Duke,
Administrator.

[FR Doc. 02-9814 Filed 4-22-02; 8:45 am]

BILLING CODE 4165-15-P